SMALL BUSINESS ADMINISTRATION

[Declaration of Disaster #3518]

State of Texas

Webb County and the contiguous counties of Dimmit, Duval, Jim Hogg, La Salle, Maverick, McMullen and Zapata in the State of Texas constitute a disaster area due to severe storms, damaging winds and hail that occurred on June 2, 2003. Applications for loans for physical damage as a result of this disaster may be filed until the close of business on September 2, 2003 and for economic injury until the close of business on April 5, 2004 at the address listed below or other locally announced locations:

U.S. Small Business Administration, Disaster Area 3 Office, 4400 Amon Carter Boulevard, Suite 102, Fort Worth, TX 76155.

The interest rates are:

| Percent
For Physical Damage:
Homeowners with credit available elsewhere | 5.625
Homeowners without credit available elsewhere | 2.812
Businesses with credit available elsewhere | 5.906
Businesses and non-profit organizations without credit available Elsewhere | 2.953
Others (including non-profit organizations) with credit available elsewhere | 5.500
For Economic Injury:
Businesses and small agricultural cooperatives without credit available elsewhere | 2.953

The number assigned to this disaster for physical damage is 351811 and for economic injury the number is 9W1800.

(Catalog of Federal Domestic Assistance Program Nos. 59002 and 59008)
Dated: July 3, 2003.
Hector V. Baretto,
Administrator.

[FR Doc. 03-17604 Filed 7-10-03; 8:45 am]

BILLING CODE 8025-01-P